RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Title and purpose of information collection: Application for Employee Annuity Under the Railroad Retirement Act; OMB 3220-0002.

Section 2a of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse is awarded a spouse annuity. Benefits become payable after the employee meets certain other requirements, which depend on the type of annuity payable. The requirements for obtaining the annuities are prescribed in 20 CFR 216 and 220.

To collect the information needed to help determine an applicant's entitlement to, and the amount of, an employee retirement annuity the RRB uses Forms AA-1, Application for Employee Annuity; AA-1d, Application for Determination of Employee Disability; G-204, Verification of Workers Compensation/Public Disability Benefit Information, and electronic Forms AA-1cert, Application Summary and Certification, and AA-1sum, Application Summary.

The AA-1 application process obtains information from an applicant about their marital history, work history, military service, benefits from other governmental agencies, railroad pensions and Medicare entitlement for either an age and service or disability annuity. An RRB representative interviews the applicant either at a field office, an itinerant point, or by telephone. During the interview, the RRB representative enters the information obtained into an on-line information system. Upon completion of the interview, the on-line information system generates Form AA-1cert, Application Summary and Certification, or Form AA-1sum, Application Summary, a summary of the information that was provided for the applicant to review and approve. Form AA-1cert documents approval using the traditional pen and ink “wet” signature, and Form AA-1sum documents approval using the alternative signature method called Attestation. When the RRB representative is unable to contact the applicant in person or by telephone, for example, the applicant lives in another country, a manual version of Form AA-1 is used.

Form AA-1d, Application for Determination of Employee's Disability, is completed by an employee who is filing for a disability annuity under the RRA, or a disability freeze under the Social Security Act for early Medicare based on a disability. Form G-204, Verification of Worker's Compensation/Public Disability Benefit Information, is used to obtain and verify information concerning a worker's compensation or a public disability benefit that is or will be paid by a public agency to a disabled railroad employee.

One response is requested of each respondent. Completion of the forms is required to obtain/retain a benefit.

Previous Requests for Comments: The RRB has already published the initial 60-day notice (81 FR 47183 on July 20, 2016) required by 44 U.S.C. 3506(c)(2). That request elicited no comments.

Title: Application for Employee Annuity Under the Railroad Retirement Act.

OMB Control Number: 3220-0002.

Form(s) submitted: AA-1, AA-1cert, AA-1d, AA-1sum and G-204.

Type of request: Revision of a currently approved collection.

Affected public: Individuals or Households.

Abstract: The Railroad Retirement Act provides for payment of age, disability and supplemental annuities to qualified employees. The application and related forms obtain information about the applicant's family work history, military service, disability benefits from other government agencies and public or private pensions. The information is used to determine entitlement to and the amount of the annuity applied for.

Changes proposed: The RRB proposes the following changes to Forms AA-1 and AA-1d:

• Deletion of Item 35a-d from Form AA-1, regarding the relinquishment of seniority rights;

• the relocation of current Items 52-53 from Form AA-1d to proposed Items 48a-b on Form AA-1, regarding whether an applicant had filed or expected to file a lawsuit or claim against a person or company for a personal injury that resulted in the payment of sickness benefits by the RRB, as the potential for uncollected sickness benefits can apply to both a disability applicant as well as an applicant qualified for an age and service annuity.

• Comparable revisions to electronic equivalent forms (AA-1cert and AA-1sum) are also being proposed.

No other changes are proposed.

The burden estimate for the ICR is as follows:

Form No. | Annual responses | Time (minutes) | Burden (hours)
AA-1 (without assistance) | 100 | 62 | 103
AA-1cert (with assistance) | 4,620 | 30 | 2,310
AA-1sum (with assistance) | 8,000 | 29 | 3,867
AA-1d (with assistance) | 2,600 | 60 | 2,600
AA-1d (without assistance) | 5 | 85 | 7
G-204 | 20 | 15 | 5
Total | 15,345 |  | 8,892

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois, 60611-1275 or Charles.Mierzwa@RRB.GOV and to the OMB Desk Officer for the RRB, Fax: 202-395-6974, Email address: OIRA_Submission@omb.eop.gov.

Charles Mierzwa,
Associate Chief Information Officer for Policy and Compliance.

[FR Doc. 2016-23526 Filed 9-28-16; 8:45 am]

BILLING CODE 7905-01-P